DEPARTMENT OF LABOR

Office of the Secretary

Submission for OMB Review: Comment Request

November 8, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained from RegInfo.gov at http://www.reginfo.gov/public/do/PRAMain or by contacting Darrin King on 202-693-4129 (this is not a toll-free number) / e-mail: king.darrin@dol.gov.

Comments should be sent to Office of Information and Regulatory Affairs, Attn: OMB Desk Officer, Office of Management and Budget, Room 10235, Washington, DC 20503, Telephone: 202-395-7316 / Fax: 202-395-6974 (these are not toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Center for Faith-Based and Community Initiatives.

Type of Review: New Collection of Information.

Title: Survey of PY 2002-2006 ETA Grassroots Grant Recipients.

OMB Number: 1290-0NEW.

Type of Response: Reporting.

Affected Public: State, Local, and Tribal Government.

Number of Respondents: 128.

Number of Annual Responses: 128.

Estimated Time per Response: 30 minutes.

Total Burden Hours: 64.

Total Annualized capital/startup costs: $0.

Total Annual Costs (operating/maintaining systems or purchasing services): $0.

Description: On January 29, 2001, President George W. Bush issued Executive Order 13198, creating the Office for Faith-Based and Community Initiatives in the White House and centers for faith-based and community initiatives (CFBCI) in the Departments of Labor (DOL), Health and Human Services (HHS), Housing and Urban Development (HUD), Education (ED), and Justice (DOJ). President Bush charged the departmental centers with identifying statutory, regulatory, and bureaucratic barriers that stand in the way of effective faith-based and community organizations, and to ensure, consistent with the law, that these organizations have equal opportunity to compete for Federal funding and other support.

In early 2002, the CFBCI and ETA developed and issued Solicitations for Grant Application (SGA) to engage grassroots organizations in our workforce system-building. These SGAs were designed to assist faith-based and community organizations in delivering social services and strengthening their existing partnerships with the local One-Stop Career Center system, while providing additional points of entry for customers into that system.

These 2002 grants embodied the Department's principal strategy for implementing the Executive Order: Creating new avenues through which qualified organizations could participate more fully under the Workforce Investment Act (WIA), while applying their particular strengths and assets in providing services to our customers. These solicitations also were derived from an ETA-CFBCI mutual premise that the involvement of faith-based and community organizations can both complement and supplement the efforts of local workforce investment systems in being accessible to and serving the training, job and career-support needs of many of our citizens.

Many faith-based and community organizations offer unique services and support networks that can contribute to our mutual system-building endeavors; are trusted institutions within our poorest neighborhoods; and are home to a large number of volunteers who bring not only the transformational power of personal relationships to the provision of social service, but also a sustained allegiance to the well-being and self-sufficiency of the participants they serve. Through their daily work and specific programs, these organizations strive to achieve some common purposes shared with government—reduction of welfare dependency, attainment of occupational skills, and entry and retention of all our citizens in good-paying jobs.

The President's Management Agenda direct the Department of Labor Center for Faith-Based and Community Initiatives to evaluate and examine the impact and outcomes of departmental programs that include faith-based and community non-profit organizations (FBCO). DOL CFBCI intends to use this data to examine the impact that receiving and managing Federal grants has on grassroots, faith-based and community organizations.

Faith-based and community organizations benefit from having equal access to Federal funds. DOL CFBCI intends to use this data to examine the extent to which faith-based and community organizations are able to use the Federal funds (awarded through the ETA Grants for Grassroots Organizations from 2002 to 2005) as leverage to expand their organizations to qualify for additional Federal, State, local or private funding.

Darrin A. King,
Acting Departmental Clearance Officer.

[FR Doc. E6-19208 Filed 11-14-06; 8:45 am]

BILLING CODE 4510-23-P